DEPARTMENT OF TRANSPORTATION

Federal Aviation Administration

14 CFR Part 39

[Docket No. FAA-2007-0171; Directorate Identifier 2007-NM-220-AD]

RIN 2120-AA64

Airworthiness Directives; Airbus Model A310 Series Airplanes

AGENCY: Federal Aviation Administration (FAA), Department of Transportation (DOT).

ACTION: Notice of proposed rulemaking (NPRM).

SUMMARY: The FAA proposes to supersede an existing airworthiness directive (AD) that applies to certain Airbus Model A310 series airplanes. The existing AD currently requires modification of certain wires in the right-hand (RH) wing. This proposed AD would require further modification by installing an additional protection sleeve and segregating route 2S in the RH pylon area. This proposed AD results from analysis of wire routing that revealed that route 2S of the fuel electrical circuit, located in the RH wing, does not provide adequate separation of fuel quantity indication wires from wires carrying 115-volt alternating current (AC). We are proposing this AD to ensure that fuel quantity indication wires are properly separated from wires carrying 115-volt AC. Improper separation of such wires, in the event of wire damage, could lead to a short circuit and a possible ignition source, which could result in a fire in the airplane.

DATES: We must receive comments on this proposed AD by December 10, 2007.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this AD, contact Airbus, 1 Rond Point Maurice Bellonte, 31707 Blagnac Cedex, France.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (telephone 800-647-5527) is in the ADDRESSES section. Comments will be available in the AD docket shortly after receipt.

FOR FURTHER INFORMATION CONTACT: Tom Stafford, Aerospace Engineer, International Branch, ANM-116, Transport Airplane Directorate, FAA, 1601 Lind Avenue, SW., Renton, Washington 98057-3356; telephone (425) 227-1622; fax (425) 227-1149.

SUPPLEMENTARY INFORMATION:

Comments Invited

We invite you to send any written relevant data, views, or arguments about this proposed AD. Send your comments to an address listed under the ADDRESSES section. Include “Docket No. FAA-2007-0171; Directorate Identifier 2007-NM-220-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

On July 19, 2004, we issued AD 2004-15-16, amendment 39-13750 (69 FR 45578, July 30, 2004), for certain Airbus Model A310 series airplanes. That AD requires modification of certain wires in the right-hand (RH) wing. That AD resulted from analysis of wire routing that revealed that route 2S of the fuel electrical circuit, located in the RH wing, does not provide adequate separation of fuel quantity indication wires from wires carrying 115-volt alternating current (AC). We issued that AD to ensure that fuel quantity indication wires are properly separated from wires carrying 115-volt AC. Improper separation of such wires, in the event of wire damage, could lead to a short circuit and a possible ignition source, which could result in a fire in the airplane.

Actions Since Existing AD Was Issued

Since we issued AD 2004-15-16, the European Aviation Safety Agency (EASA), which is the Technical Agent for the Member States of the European Community, informed us that additional work is necessary that was not included in the Accomplishment Instructions of Airbus Service Bulletin A310-28-2148, dated January 23, 2002; and Revision 01, dated October 29, 2002. We referred to Airbus Service Bulletin A310-28-2148, Revision 01, dated October 29, 2002, as the appropriate source of service information for doing the modification required by AD 2004-15-16.

Relevant Service Information

Airbus has issued Service Bulletin A310-28-2148, Revision 02, dated March 9, 2007. Revision 02 of the service bulletin describes essentially the same procedures for doing the modification of certain wires in the RH wing, except that Revision 02 specifies doing further modification by installing additional protection sleeves in the outer wing area near the cadensicon sensor and segregating wire route 2S in the RH pylon area.

Accomplishing the actions specified in the service information is intended to adequately address the unsafe condition. EASA mandated the service information and issued EASA airworthiness directive 2007-0230, dated August 15, 2007, to ensure the continued airworthiness of these airplanes in the European Union. EASA airworthiness directive 2007-0230 supersedes French airworthiness directive 2002-578(B), dated November 27, 2002, which was referenced in AD 2004-15-16 as the parallel French airworthiness directive.

FAA's Determination and Requirements of the Proposed AD

These airplanes are manufactured in France and are type certificated for operation in the United States under the provisions of section 21.29 of the Federal Aviation Regulations (14 CFR 21.29) and the applicable bilateral airworthiness agreement. Pursuant to this bilateral airworthiness agreement, the EASA has kept the FAA informed of the situation described above. We have examined the EASA's findings, evaluated all pertinent information, and determined that AD action is necessary for airplanes of this type design that are certificated for operation in the United States.

This proposed AD would supersede AD 2004-15-16 and would retain the requirements of the existing AD. This proposed AD would also require accomplishing the actions specified in Revision 02 of the service bulletin described previously.

Change to Existing AD

This proposed AD would retain all requirements of AD 2004-15-16. Since AD 2004-15-16 was issued, the AD format has been revised, and certain paragraphs have been rearranged. As a result, the corresponding paragraph identifiers have changed in this proposed AD, as listed in the following table:

Revised Paragraph Identifiers
Requirement in AD 2004-15-16 | Corresponding requirement in this proposed AD
Paragraph (a) | Paragraph (f).
Paragraph (b) | Paragraph (g).

Explanation of Change to Applicability

We have revised the applicability of the existing AD to identify affected airplanes in parallel with the applicability of EASA airworthiness directive 2007-0230. No additional airplanes have been added to the applicability of the existing AD.

Costs of Compliance

The following table provides the estimated costs for U.S. operators to comply with this proposed AD.

Estimated Costs
Action | Work hours | Average labor rate per hour | Parts | Cost per airplane | Number of U.S.-registered airplanes | Fleet cost
Modification (required by AD 2004-15-16) | 35 | $80 | $4,459 | $7,259 | 68 | $493,612
Further Modification (new proposed action) | 22 | 80 | 1,870 | 3,630 | 68 | 246,840

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-13750 (69 FR 45578, July 30, 2004) and adding the following new airworthiness directive (AD):

Airbus: Docket No. FAA-2007-0171; Directorate Identifier 2007-NM-220-AD.

Comments Due Date

(a) The FAA must receive comments on this AD action by December 10, 2007.

Affected ADs

(b) This AD supersedes AD 2004-15-16.

Applicability

(c) This AD applies to Model A310 series airplanes, certificated in any category, all certified models, all serial numbers, except airplanes on which Airbus Service Bulletin A310-28-2148, Revision 02, dated March 9, 2007, has been done (Airbus Modifications 12427 and 12435).

Unsafe Condition

(d) This AD results from analysis of wire routing that revealed that route 2S of the fuel electrical circuit, located in the right-hand (RH) wing, does not provide adequate separation of fuel quantity indication wires from wires carrying 115-volt alternating current (AC). We are issuing this AD to ensure that fuel quantity indication wires are properly separated from wires carrying 115-volt AC. Improper separation of such wires, in the event of wire damage, could lead to a short circuit and a possible ignition source, which could result in a fire in the airplane.

Compliance

(e) You are responsible for having the actions required by this AD performed within the compliance times specified, unless the actions have already been done.

Restatement of Requirements of AD 2004-15-16

Modification

(f) Within 4,000 flight hours after September 3, 2004 (the effective date of AD 2004-15-16): Modify the routing of wires in the RH wing by installing cable sleeves, per the Accomplishment Instructions of Airbus Service Bulletin A310-28-2148, Revision 01, dated October 29, 2002; or Revision 02, dated March 9, 2007. As of the effective date of this AD, Revision 02 must be used.

Actions Accomplished Previously

(g) Modification of the routing of wires accomplished before September 3, 2004, per Airbus Service Bulletin A310-28-2148, dated January 23, 2002, is acceptable for compliance with the corresponding requirements of paragraph (f) of this AD.

New Requirements of This AD

Modification (Additional Work)

(h) For airplanes on which the actions specified in Airbus Service Bulletin A310-28-2148, dated January 23, 2002; or Airbus Service Bulletin A310-28-2148, Revision 01, dated October 29, 2002; have been done before the effective date of this AD: Within 6,000 flight hours or 30 months after the effective date of this AD, whichever occurs first, perform further modification by installing additional protection sleeves in the outer wing area near the cadensicon sensor and segregating wire route 2S in the RH pylon area, in accordance with the Accomplishment Instructions of Airbus Service Bulletin A310-28-2148, Revision 02, dated March 9, 2007.

Alternative Methods of Compliance (AMOCs)

(i)(1) The Manager, International Branch, ANM-116, Transport Airplane Directorate, FAA, has the authority to approve AMOCs for this AD, if requested in accordance with the procedures found in 14 CFR 39.19.

(2) To request a different method of compliance or a different compliance time for this AD, follow the procedures in 14 CFR 39.19. Before using any approved AMOC on any airplane to which the AMOC applies, notify your appropriate principal inspector (PI) in the FAA Flight Standards District Office (FSDO), or lacking a PI, your local FSDO.

Related Information

(j) European Aviation Safety Agency airworthiness directive 2007-0230, dated August 15, 2007, also addresses the subject of this AD.

Issued in Renton, Washington, on November 2, 2007.
Ali Bahrami,
Manager, Transport Airplane Directorate, Aircraft Certification Service.

[FR Doc. E7-22002 Filed 11-8-07; 8:45 am]

BILLING CODE 4910-13-P